DEPARTMENT OF TRANSPORTATION

Office of the Secretary

Notice of Applications for Certificates of Public Convenience and Necessity and Foreign Air Carrier Permits Filed Under Subpart B (Formerly Subpart Q) During the Week Ending June 27, 2008.

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2003-16843 and DOT-OST-2008-0199.

Date Filed: June 24, 2008.

Due Date for Answers, Conforming Applications, or Motion to Modify Scope: July 15, 2008.

Description: Supplement of Aero Services—Executive S.A. to its application for a foreign air carrier permit to allow it to engage in: (i) Charter foreign air transportation of persons, property and mail from any point or points behind any Member State and via intermediate points to any point of points in the United States and beyond; (ii) foreign charter air transportation of persons, property and mail between any point or points in the United States and any point or points in any member of the European Common Aviation Area; (iii) other charters pursuant to prior approval; and transportation authorized by any additional rights granted to European Community carrier in the future.

Docket Number: DOT-OST-1997-2166.

Date Filed: June 25, 2008.

Due Date for Answers, Conforming Applications, or Motion to Modify Scope: July 16, 2008.

Description: Application of Thomas Cook Airlines Scandinavia A/S requesting an amended foreign air carrier permit and exemption authority to conduct: (a) Foreign charter air transportation of persons, property and mail from any point or points behind any Member State of the European Union via any point or points in any Member State and via intermediate points to any point or points in the United States and beyond; (b) foreign charter air transportation of persons, property and mail between any point or points in the United States and any point or points in any member of the European Common Aviation Area; (c) foreign charter cargo air transportation between any point or points in the United States and any other point or points; (d) other charters pursuant to the prior approval; and (e) charter transportation consistent with any future, additional rights that may be granted to foreign air carriers of the Member States of the European Union.

Renee V. Wright,
Program Manager, Docket Operations, Federal Register Liaison.

[FR Doc. E8-17266 Filed 7-25-08; 8:45 am]

BILLING CODE 4910-9X-P